DEPARTMENT OF HEALTH AND HUMAN SERVICES

National Institutes of Health

Submission for OMB Review; Comment Request; Survey of Health Care Professionals' Awareness and Perceptions of the National Cancer Institute's Intramural Clinical Trials (NCI)

Summary: Under the provisions of Section 3507(a)(1)(D) of the Paperwork Reduction Act of 1995, the National Cancer Institute (NCI), the National Institutes of Health (NIH), has submitted to the Office of Management and Budget (OMB) a request to review and approve the information collection listed below. This proposed information collection was previously published in the Federal Register on April 22, 2010 (75 FR 20999) and allowed 60-days for public comment. There were no public comments received. The purpose of this notice is to allow an additional 30 days for public comment. The National Institutes of Health may not conduct or sponsor, and the respondent is not required to respond to, an information collection that has been extended, revised, or implemented on or after October 1, 1995, unless it displays a currently valid OMB control number.

Proposed Collection: Title: Survey of Health Care Professionals' Awareness and Perceptions of the National Cancer Institute's Intramural Clinical Trials (NCI). Type of Information Collection Request: New. Need and Use of Information Collection: To assess respondents' awareness and knowledge of NCI and measure awareness of NCI clinical trials at the NIH Clinical Center in Bethesda, MD. The survey will be disseminated electronically to members of the American Medical Association (AMA) with a certain primary specialties. Frequency of Response: Yearly. Affected Public: Individual adults. Type of Respondents: Health care providers (AMA members who have allowed the use of their e-mail address). The annual reporting burden is estimated at 28 hours (see Table below).

A.12-1—Estimates of Annual Burden Hours
Type of respondents | Number of respondents | Frequency of response | Average time per response (minutes/hour) | Annual burden hours
Health care professionals who complete the survey | 330 | 1 | 5/60 (0.083) | 27.5
Totals | 330 | 330 |  | 27.5

There are no Capital Costs, Operating Costs, and/or Maintenance Costs to report.

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans and instruments, contact Susan McMullen, RN, Director, Office of Patient Outreach and Recruitment, Center for Cancer Research, NCI, Bloch Building 82, Room 101, MSC 8200, 9030 Old Georgetown Road, Bethesda, Maryland 20892 or by e-mailing your request, including your address to: mcmulles@mail.nih.gov.

Comments Due Date: Comments regarding this information collection are best assured of having their full effect if received within 30 days of the date of this publication.

Dated: June 29, 2010.
Vivian Horovitch-Kelley,
NCI Project Clearance Liaison, National Institutes of Health.

[FR Doc. 2010-16359 Filed 7-6-10; 8:45 am]

BILLING CODE 4140-01-P